DEPARTMENT OF LABOR

Mine Safety and Health Administration

Proposed Extension of Existing Information Collection; Mine Mapping and Records of Opening, Closing, and Reopening of Mines (Formerly, Record of Mine Closures, Opening & Reopening of Mines)

AGENCY: Mine Safety and Health Administration, Labor.

ACTION: Request for public comments.

SUMMARY: The Department of Labor, as part of its continuing effort to reduce paperwork and respondent burden, conducts a pre-clearance consultation program to provide the general public and Federal agencies with an opportunity to comment on proposed and/or continuing collections of information in accordance with the Paperwork Reduction Act of 1995. This program helps to assure that requested data can be provided in the desired format, reporting burden (time and financial resources) is minimized, collection instruments are clearly understood, and the impact of collection requirements on respondents can be properly assessed.

The Mine Safety and Health Administration (MSHA) is soliciting comments concerning the proposed extension of an existing information collection request (ICR), OMB Control Number 1219-0073 (OMB 1219-0073), which was titled “Record of Mine Closures, Opening and Reopening of Mines” when last approved on March 31, 2009. OMB 1219-0073 has been renamed “Mine Mapping and Records of Opening, Closing, and Reopening of Mines” to acknowledge the ICR's burden for mine mapping as primary; it being significantly greater than records for closure, opening, and reopening of mines. This information collection covers paperwork requirements in the following provisions: 30 CFR 75.372, 75.373, 75.1200, 75.1200-1, 75.1201, 75.1202, 75.1202-1, 75.1203, 75.1204, 75.1204-1, and 75.1721; as well as 30 CFR 77.1200, 77.1201, and 77.1202. OMB last approved this information collection request (ICR) on March 31, 2009.

DATES: Submit comments on or before May 21, 2012.

ADDRESSES: Comments concerning the information collection requirements of this notice must be clearly identified with “OMB 1219-0073” and sent to both the Office of Management and Budget (OMB) and MSHA. Comments to MSHA may be sent by any of the methods listed below.

• Federal E-Rulemaking Portal: http://www.regulations.gov. Follow the on-line instructions for submitting comments.

• Facsimile: 202-693-9441, include “OMB 1219-0073” in the subject line of the message.

• Regular Mail or Hand Delivery: MSHA, Office of Standards, Regulations, and Variances, 1100 Wilson Boulevard, Room 2350, Arlington, VA 22209-3939.

• Hand Delivery or Courier: MSHA, Office of Standards, Regulations, and Variances, 1100 Wilson Boulevard, Room 2350, Arlington, VA 22209-3939. For hand delivery, sign in at the receptionist's desk on the 21st floor.

Comments to OMB may be sent by mail addressed to the Office of Information and Regulatory Affairs, Office of Management and Budget, New Executive Office Building, 725 17th Street NW., Washington, DC 20503, Attn: Desk Officer for MSHA.

FOR FURTHER INFORMATION CONTACT: Greg Moxness, Chief, Economic Analysis Division, Office of Standards, Regulations, and Variances, MSHA, at moxness.greg@dol.gov (email); 202-693-9440 (voice); or 202-693-9441 (facsimile).

SUPPLEMENTARY INFORMATION:

I. Background

MSHA's information collection request, OMB 1219-0073, addresses fourteen standards as follows:

30 CFR citations | Title
Part 75 | Underground Coal Mines
§ 75.372 | Mine ventilation map.
§ 75.373 | Reopening mines.
§ 75.1200 | Mine map.
§ 75.1200-1 | Additional information on mine map.
§ 75.1201 | Certification.
§ 75.1202 | Temporary notations, revisions, and supplements.
§ 75.1202-1 | Temporary notations, revisions, and supplements.
§ 75.1203 | Availability of mine map.
§ 75.1204 | Mine closure; filing of map with Secretary.
§ 75.1204-1 | Places to give notice and file maps.
§ 75.1721 | Opening of new underground coal mines, or reopening and reactivating of abandoned or deactivated coal mines, notification by the operator; requirements.
Part 77 | Surface Coal Mines and Surface Work Areas of Underground Coal Mines
§ 77.1200 | Mine map.
§ 77.1201 | Certification of mine maps.
§ 77.1202 | Availability of mine map.

Mine maps are schematic depictions of critical mine infrastructure, such as water, power, transportation, ventilation, and communication systems. Using accurate, up-to-date maps during a disaster, mine emergency personnel can locate where miners may have taken refuge and identify sites of explosion or inundation potential; they can know where stationary equipment was placed, where ground was secured, and where they can best begin a rescue operation. During a disaster, maps can be crucial to the safety of the emergency personnel who must enter a mine to begin a search for survivors. Coal mine operators routinely use maps to create safe and effective development plans for their mines.

Mine maps may describe the current status of a long-standing operation or provide crucial information years after a mine with extensive workings was closed, but is being reopened.

Title 30 CFR 75.1200 requires each underground coal mine operator to have an accurate and up-to-date map of such mine drawn to scale and stored in a fireproof repository in an area on the surface of the mine chosen by the mine operator to minimize the danger of destruction by fire or other hazards. Sections 75.1200-1, 75.1201, 75.1202, 75.1202-1, and 75.1203 specify the information which must be shown on the map. The maps must be certified by a registered engineer or surveyor; kept continuously up-to-date by temporary notations and revised and supplemented to include the temporary notations at intervals not more than 6 months; and made available for inspection by a representative of the Secretary, State coal mine inspectors, miners and their representatives, operators of adjacent coal mines, and persons owning, leasing, or residing on surface areas of such mines or areas adjacent to such mines. These maps are essential to the planning and safe operation of the mine. In addition, these maps provide a graphic presentation of the locations of working sections and the locations of fixed surface and underground mine facilities and equipment, escapeway routes, coal haulage and man and materials haulage entries and other information essential to mine rescue or mine fire fighting activities in the event of mine fire, explosion or inundations of gas or water. The information is essential to the safe operation of adjacent mines and mines approaching the worked out areas of active or abandoned mines. Section 75.372 requires underground mine operators to submit three copies of an up-to-date mine map to the District Manager at intervals not exceeding 12 months during the operating life of the mine.

Title 30 CFR 75.1204 and 75.1204-1 require that whenever an underground coal mine operator permanently closes or abandons a coal mine, or temporarily closes a coal mine for a period of more than 90 days, the operator shall file with MSHA a copy of the mine map revised and supplemented to the date of closure. Maps are retained in a repository and are made available to mine operators of adjacent properties. The maps are necessary to provide an accurate record of underground areas that have been mined to help prevent active mine operators from mining into abandoned areas that may contain water or harmful gases.

Title 30 CFR 77.1200, 77.1201 and 77.1202 require surface coal mine operators to maintain an accurate and up-to-date map of the mine and specifies the information to be shown on the map, the acceptable range of map scales, that the map be certified by a registered engineer or surveyor, that the map be available for inspection by the Secretary or his authorized representative. These maps are essential for the safe operation of the mine and provide essential information to operators of adjacent surface and underground mines. Properly prepared and effectively utilized surface mine maps can prevent outbursts of water impounded in underground mine workings and/or inundations of underground mines by surface impounded water or water and or gases impounded in surface auger mining worked out areas.

Title 30 CFR 75.373 and 75.1721 require that after a mine is abandoned or declared inactive and before it is reopened, mine operations shall not begin until MSHA has been notified and has completed an inspection. Section 75.1721 specifies that once the mine operator notifies the MSHA District Manager on the intent to reopen a mine all preliminary plans must be submitted in writing prior to development of the coalbed unless or until all preliminary plans are approved.

II. Desired Focus of Comments

MSHA is particularly interested in comments that:

• Evaluate whether the collection of information is necessary for the proper performance of MSHA's functions, including whether the information has practical utility;

• Evaluate the accuracy of MSHA's estimate of the burden of the collection of information, including the validity of the methodology and assumptions used;

• Suggest methods to enhance the quality, utility, and clarity of the information to be collected; and

• Address the use of appropriate automated, electronic, mechanical, or other technological collection techniques or other forms of information technology, e.g., permitting electronic submissions of responses, to minimize the burden of the collection of information on those who are to respond.

The public may examine publicly available documents, including the public comment version of the supporting statement, at MSHA, Office of Standards, Regulations, and Variances, 1100 Wilson Boulevard, Room 2350, Arlington, VA 22209-3939. OMB clearance requests are available at MSHA's Web site at http://www.msha.gov under “Rules & Regs” on the right side of the screen by selecting Information Collections Requests, Paperwork Reduction Act Supporting Statements. The public comment version of the supporting statement will be available on MSHA's Web site for 60 days after the publication date of this notice. The document will be available on MSHA's home page site for 60 days after the signature date of this notice. Comments submitted in writing or in electronic form will be made available for public inspection. Because comments will not be edited to remove any identifying or contact information, MSHA cautions the commenter against including any information in the submission that should not be publicly disclosed. Questions about the information collection requirements may be directed to the person listed in the FOR FURTHER INFORMATION CONTACT section of this notice.

III. Current Actions

The information obtained from mine operators is used by MSHA during inspections to determine compliance with safety standards concerning mine maps. MSHA has updated the data in respect to the number of respondents and responses, as well as the total burden hours and burden costs supporting this information collection extension request.

Type of Review: Extension.

Agency: Mine Safety and Health Administration.

Title: Mine Mapping and Records of Opening, Closing, and Reopening of Mines.

OMB Number: 1219-0073.

Affected Public: Business or other for-profit.

Cite/Reference/Form/etc: 30 CFR Part 75 and Part 77.

Total Respondents: 1,876.

Frequency: Annual, at least every six months, and as mines are developed.

Total Number of Responses: 804.

Estimated Total Burden Hours: 16,476.

Estimated Total Burden Cost: $21,474,889.

Comments submitted in response to this notice will be summarized and included in the request for Office of Management and Budget approval of the information collection request; they will also become a matter of public record.

Authority: 44 U.S.C. 3506(c)(2)(A).

Patricia W. Silvey,
Certifying Officer.

[FR Doc. 2012-6870 Filed 3-21-12; 8:45 am]

BILLING CODE 4510-43-P